DEPARTMENT OF COMMERCE

National Oceanic and Atmospheric Administration

50 CFR Part 665

[Docket No. 061227341-7031-02; I.D. 120406A]

RIN 0648-AU99

Fisheries in the Western Pacific; Western Pacific Pelagic Fisheries; Hawaii Shallow-Set Longline Fishery; Correction

AGENCY: National Marine Fisheries Service (NMFS), National Oceanic and Atmospheric Administration (NOAA), Commerce.

ACTION: Final rule; correction.

SUMMARY: This document contains corrections to the final regulations that were published in the Federal Register on February 26, 2007, and are effective March 28, 2007. The published rule amended CFR text that is effective only through March 19, 2007. This correction changes the amendatory instructions in the final rule to accurately reflect effective CFR parts as of March 28, 2007. These changes ensure that the 7-day delay in effectiveness is permanently removed when closing the Hawaii-based shallow-set longline fishery as a result of reaching interaction limits for sea turtles.

DATES: Effective March 28, 2007.

FOR FURTHER INFORMATION CONTACT: Bob Harman, NMFS Pacific Islands Region, 808-944-2271.

SUPPLEMENTARY INFORMATION: The final rule published on February 26, 2007 (72 FR 8289) and effective March 28, 2007, removes the 7-day delay in effectiveness when closing the Hawaii-based shallow-set longline fishery as a result of reaching interaction limits for sea turtles. It allows for an immediate closure of the fishery to enhance protection of sea turtles.

The amendatory instructions that are the subject of this correction refer to § 665.22 and § 665.33 in the CFR. The amendatory instructions in the published final rule (72 FR 8289) were written to amend CFR text that is effective only through March 19, 2007. This correction makes two changes to the amendatory instructions to accurately reflect effective CFR parts as of March 28, 2007. In the amendatory instruction for § 665.22, “revise” is replaced with “add”. This change is necessary to insert revisions of paragraphs (ss) and (tt) that were effective through March 19, 2007. In amendatory instruction for § 665.33, the phrase, “remove paragraphs (b)(2)(iii) and (iv)”, is removed, since the subject paragraphs will no longer be effective on March 28, 2007.

Correction

Accordingly, the final rule amendatory instructions published on February 26, 2007 in 72 FR 8289 are corrected as follows:

§ 665.22 [Amended]

On page 8291, column 2, the second amendatory instruction is correctly revised as follows:

2. In § 665.22, add paragraphs (ss) and (tt) to read as follows:

§ 665.33 [Amended]

On page 8291, column 2, the third amendatory instruction is revised to read as follows:

3. In § 665.33, revise paragraphs (b)(2)(i) and (ii) to read as follows:

Dated: February 28, 2007.
Samuel D. Rauch III,
Deputy Assistant Administrator for Regulatory Programs, National Marine Fisheries Service.

[FR Doc. E7-3902 Filed 3-6-07; 8:45 am]

BILLING CODE 3510-22-S